DEPARTMENT OF TRANSPORTATION

Federal Aviation Administration

14 CFR Part 39

[Docket No. FAA-2018-0077; Product Identifier 2017-NM-126-AD; Amendment 39-19352; AD 2018-16-12]

RIN 2120-AA64

Airworthiness Directives; Airbus Airplanes

AGENCY: Federal Aviation Administration (FAA), Department of Transportation (DOT).

ACTION: Final rule.

SUMMARY: We are adopting a new airworthiness directive (AD) for certain Airbus Model A319 and A320 series airplanes; and A321-111, -112, -131, -211, -212, -213, -231, and -232 airplanes. This AD was prompted by reports of battery retaining rod failures due to quality defects of the material used during parts manufacturing. This AD requires a detailed inspection of the battery support assemblies to identify the battery retaining rod manufacturer, replacement of the battery retaining rods with serviceable battery retaining rods if necessary, and the addition of the applicable service information label on each battery retaining rod if necessary. We are issuing this AD to address the unsafe condition on these products.

DATES: This AD is effective September 12, 2018.

The Director of the Federal Register approved the incorporation by reference of certain publications listed in this AD as of September 12, 2018.

ADDRESSES: For service information identified in this final rule, contact Airbus, Airworthiness Office—EIAS, 2 Rond Point Emile Dewoitine, 31700 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195. It is also available on the internet at http://www.regulations.gov by searching for and locating Docket No. FAA-2018-0077.

Examining the AD Docket

You may examine the AD docket on the internet at http://www.regulations.gov by searching for and locating Docket No. FAA-2018-0077; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223.

SUPPLEMENTARY INFORMATION:

Discussion

We issued a notice of proposed rulemaking (NPRM) to amend 14 CFR part 39 by adding an AD that would apply to certain Airbus Model A319 and A320 series airplanes; and Model A321-111, -112, -131, -211, -212, -213, -231, and -232 airplanes. The NPRM published in the Federal Register on February 12, 2018 (83 FR 5960) (“the NPRM”).

The European Aviation Safety Agency (EASA), which is the Technical Agent for the Member States of the European Union, has issued EASA AD 2017-0161R1, dated September 19, 2017; corrected September 20, 2017 (referred to after this as the Mandatory Continuing Airworthiness Information, or “the MCAI”), to correct an unsafe condition for certain Airbus Model A319 and A320 series airplanes; and Model A321-111, -112, -131, -211, -212, -213, -231, and -232 airplanes. The MCAI states:

Several occurrences have been reported of battery rod failures on certain Airbus aeroplanes. Subsequent examination of broken rod parts determined that these failures were due to quality defects of the material used during parts manufacturing. Each battery is secured on an aeroplane by two rods. Failure of one rod, in case of severe turbulence during flight or hard landing, could lead to battery displacement, or roll on the remaining rod side, up to a point where the remaining rod could be disengaged. The battery could ultimately detach from its housing and damage relays, connectors, contactor boxes, air ducts and surrounding structure.

This condition, if not detected and corrected, could lead to the loss of the normal electrical generation not followed by an automatic recovery of essential network.

To address this potential unsafe condition, Airbus issued Alert Operators Transmission (AOT) A92N001-16 (later revised) and EASA issued AD 2016-0204 [which corresponds to FAA AD 2016-25-24 (81 FR 90958, December 16, 2016) (“AD 2016-25-24”)] requiring repetitive general visual inspections (GVI) of the four battery rods (two per battery), and, in case of findings, replacement of battery rods.

Since that [EASA] AD was issued, the manufacturer of the broken battery retaining rods has been identified, which allows proper identification of the affected parts and their withdrawal from service. Consequently, Airbus issued [service bulletin] SB A320-92-1116 and SB A320-92-1118 to provide the necessary instructions to the affected operators. No rods delivered as spare parts are affected by the manufacturing issue.

For the reason described above, this [EASA] AD retains the requirements of EASA AD 2016-0204, which is superseded, and requires replacement of battery retaining rods depending on manufacturer identification. This [EASA] AD also provides a terminating action for the repetitive inspections.

You may examine the MCAI in the AD docket on the internet at http://www.regulations.gov by searching for and locating Docket No. FAA-2018-0077.

Comments

We gave the public the opportunity to participate in developing this AD. The following presents the comments received on the NPRM and the FAA's response to each comment.

Request To Revise the Compliance Time

Air Line Pilots Association, International (ALPA) requested that we revise the compliance time. ALPA stated that the proposed AD specifies a compliance time of within 24 months after the AD effective date. ALPA commented that because the proposed AD is related to quality, it believes this compliance time is insufficient. ALPA also commented that since the issuance of the manufacturer's service information, operators have had over 12 months to comply with the required corrective actions. ALPA stated that, additionally, the time estimated to complete the inspections and replacement of the affected parts is minimal. ALPA recommended that we consider a compliance time of within 12 months after the AD effective date.

We disagree with the commenter. While some U.S. operators have had time to plan and schedule the work contained in the Airbus service information, there is no obligation for any U.S. operator to perform those actions without a regulatory requirement. Therefore, we agree with EASA's decision to allow a 24-month compliance time to plan, schedule, and accomplish the actions necessary to remove the unsafe condition. If additional data are presented that would justify a shorter compliance time, we may consider further rulemaking on this issue. We have not changed this AD in this regard.

Request To Revise the Definition of Serviceable Rod

Delta Airlines (DAL) requested that we revise the definition of a serviceable rod in paragraph (g) of the proposed AD. DAL stated to add an additional paragraph that specifies:

A battery retaining rod with an ISB [inspection service bulletin] label installed in accordance with the accomplishment instructions of Airbus Service Bulletin A320-92-1116, Revision 00, dated January 31, 2017 (for Airbus Model A319 and A320 series airplanes; and A321-111, -112, -131, -211, -212, -213, -231, and -232 airplanes); or Airbus Service Bulletin A320-92-1118, Revision 00, dated January 31, 2017 (for Airbus Model A320-251N and -271N airplanes).

We partially agree with revising the definition of a serviceable rod in paragraph (g) of this AD. We have determined that the installation of the ISB label does not affect the unsafe condition and have removed the requirement from this AD. We have coordinated this changed with EASA. Furthermore, we have revised paragraph (g) of this AD to clarify that the battery retaining rod used for replacement must be positively identified as a serviceable battery retaining rod.

Request for Clarification Regarding Manufacturer Serial Numbers

United Airlines (UAL) requested clarification regarding manufacturer serial numbers in the proposed AD. UAL stated that the manufacturer serial numbers are not applicable to the proposed AD as identified in Airbus Service Bulletin A320-92-1116, Revision 00, dated January 31, 2017, and Airbus Service Bulletin A320-92-1118, Revision 00, dated January 31, 2017. UAL stated that, although the machining that caused the failure mode is identified in the service information, the same battery retaining rod part number used in pre- and post-service information remains unchanged. UAL commented that it is unclear whether a serial number, batch number, or date exists for those battery retaining rods. UAL also asked how were the battery retaining rod spares deemed to be serviceable in paragraph (g)(1) of the proposed AD?

We agree to provide clarification for the commenter. According to EASA AD 2017-0161R1, dated September 19, 2017; corrected September 20, 2017; no spares with manufacturing defects were delivered by Airbus. Only a certain batch of defective parts were installed in production on certain manufacturer serial numbers as specified in Airbus Service Bulletin A320-92-1116, Revision 00, dated January 31, 2017; and Airbus Service Bulletin A320-92-1118, Revision 00, dated January 31, 2017. If an operator does not have an airplane affected as specified in the service information, then there is no concern relative to defective spare parts. We have not changed this AD in this regard.

Request To Clarify the Identification of Affected Parts

DAL requested that we clarify the identification of the affected parts in paragraph (h) of the proposed AD. DAL stated that the detailed inspection to identify the battery retaining rod manufacturer should be of the battery support assemblies and not the battery retaining rods.

We agree with the commenter's request. We have revised paragraph (h) of this AD to require a detailed inspection of the battery support assemblies to identify the manufacturer of the battery retaining rods.

Request To Include an Additional Method of Compliance to the AD Requirements

DAL requested that we add an additional method of compliance for paragraphs (h), (i), and (j) of the proposed AD. DAL stated that the language, “or using a method approved by the Manager, International Section, Transport Standards Branch, FAA; or EASA; or Airbus's EASA Design Organization Approval (DOA),” should be included as an option to using the service information. DAL also stated that this language should be considered standard wording for future ADs as applicable.

We disagree with the commenter's request. We have already provided a method of compliance (MOC) for paragraphs (h), (i), and (j) of this AD in accordance with the applicable service information. Any deviations from the required MOC would need an evaluation in form of an AMOC. DAL's proposed option is generally utilized in cases where no MOC has been established or we have known information that the MOC may not be applicable for all airplanes in the U.S fleet. We have not changed the AD in this regard.

Request To Not Require Certain Service Information Labels on the Battery Rod

DAL and American Airlines (AA) requested that we not mandate that a service information label be attached to each battery retaining rod as required by the Airbus service information specified in paragraphs (j) and (l) of the proposed AD. AA also requested that we not mandate attachments of a service information label as part of the replacement required by paragraph (i) of the proposed AD. DAL stated that it has 7 affected airplanes that would have a different final configuration than the current and future fleet of 348 airplanes in its A320FAM fleet.

AA stated that all battery retaining rods provided by Airbus post August 2016 are marked and stamped with manufactures part number (MPN) D8241023700000. AA commented that this marking of the new battery retaining rods can be used in lieu of the information service bulletin (ISB) label. AA also commented that it plans to replace all existing battery retaining rods with the new battery retaining rods that are marked with MPN D8241023700000.

In addition, AA stated that installing the ISB label on the battery retaining rods on 128 of its A319/A320 airplanes does not add a safety value, but will put a burden on AA to maintain two different configurations of battery retaining rod installation between 128 airplanes that are effected by the service information in the proposed AD and 265 airplanes that are not affected by the service information in the proposed AD.

We agree with the commenters' request. We agree that the ISB label is not necessary to mitigate the risk addressed in this AD. Therefore, we have determined that the installation of ISB label should be optional and not a required for compliance (RC) step.

However, 14 CFR 39.9, specifies that operators have a continuing obligation to maintain compliance with an AD, and the installation of the ISB label or an equivalent method to identify a serviceable battery retaining rod provides the operators with a simplified way to demonstrate compliance with the AD requirements. We have removed paragraph (j) of the proposed AD and revised paragraph (l) of this AD to revise the terminating action requirements. We have also added paragraph (j) of this AD to provide an exception to paragraph (i) of this AD, which specifies that installing the ISB label is not a requirement in this AD.

Request To Revise the Terminating Action Paragraph

DAL requested that paragraph (l) of the proposed AD, “Terminating Action,” be revised to read, “Replacement of all battery retaining rods,” and not, “Replacement of all battery retaining rods marked `SA. . . .' ” DAL stated that the battery retaining rods are not marked with “SA,” only the battery support assemblies.

We agree with the commenter's request and have revised the AD accordingly.

Request To Use Alternate Part Numbers

Spirit Airlines requested that either the service information or the proposed AD be revised to provide the use of alternate materials to label part number (P/N) ASNE0248A1-4H9. Spirit Airlines stated that P/N ASNE0248A1-4H9 is no longer available, and that alternate P/N E0248A1-4H9P and P/N ASNE0248A1-4H9T may be obtained from Airbus. Spirit Airlines believes that use of these alternate part numbers would provide an equivalent level of safety as referenced in Airbus Dossier Reference 80403684/003, dated January 8, 2018, and Airbus Retrofit Information Letter SA92M16012714 R00, dated February 1, 2017.

DAL requested that a previously approved AMOC be used in the proposed AD. DAL stated that in paragraph (h) and (j) of the proposed AD, Airbus Service Bulletin A320-92-1116, Revision 00, dated January 31, 2017, calls out a non-procurable part number for the identification label. Therefore, DAL proposed that recognition of AMOC AIR-676-18-152, issued against AD 2016-25-24, which allows an alternate label part number, be added to paragraph (m) of the proposed AD as an acceptable method of compliance to the proposed AD.

We partially agree with the commenters request. As we stated previously, we have determined that installation of an ISB label is not an RC step. Therefore, a previously issued AMOC for allowing alternate label part numbers is unnecessary. However, we would like to remind operators that 14 CFR 39.9 specifies an operator's continuing obligation to maintain compliance with an AD, and installation of an ISB label or an equivalent method provides operators with a method to demonstrate the affected battery retaining rods have been removed and replaced with serviceable retaining rods in compliance with the AD requirements.

Differences Between This AD and the MCAI

The MCAI includes a requirement to install an ISB label. This AD does not include that requirement. We have determined that the ISB label is not necessary to mitigate the risk addressed in this AD. However, 14 CFR 39.9, specifies that operators have a continuing obligation to maintain compliance with an AD, and the installation of the ISB label or an equivalent method to identify a serviceable battery retaining rod provides the operators with a simplified way to demonstrate compliance with the AD requirements.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

Airbus has issued Service Bulletin A320-92-1116, Revision 00, dated January 31, 2017; and Service Bulletin A320-92-1118, Revision 00, dated January 31, 2017. This service information describes a detailed inspection of the battery support assemblies to identify the battery retaining rod manufacturer, replacement of the battery retaining rods with serviceable battery retaining rods if necessary, and adding the applicable service information label on each battery retaining rod if necessary. These documents are distinct since they apply to different airplane models. This service information is reasonably available because the interested parties have access to it through their normal course of business or by the means identified in the ADDRESSES section.

Costs of Compliance

We estimate that this AD affects 330 airplanes of U.S. registry.

We estimate the following costs to comply with this AD:

Estimated Costs
Action | Labor cost | Parts cost | Cost per product | Cost on U.S. operators
Inspection | 1 work-hour × $85 per hour = $85 | $0 | $85 | $28,050

We estimate the following costs to do any necessary replacement that would be required based on the results of the inspection. We have no way of determining the number of aircraft that might need this replacement:

On-Condition Costs
Action | Labor cost | Parts cost | Cost per product
Replacement | 1 work-hour × $85 per hour = $85 | $0 | $85

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-16-12 Airbus: Amendment 39-19352; Docket No. FAA-2018-0077; Product Identifier 2017-NM-126-AD.

(a) Effective Date

This AD is effective September 12, 2018.

(b) Affected ADs

This AD affects AD 2016-25-24, Amendment 39-18750 (81 FR 90958, December 16, 2016) (“AD 2016-25-24”).

(c) Applicability

This AD applies to Airbus Model A319-111, -112, -113, -114, -115, -131, -132, and -133 airplanes; Model A320-211, -212, -214, -216, -231, -232, -233, -251N, and -271N airplanes; and Model A321-111, -112, -131, -211, -212, -213, -231, and -232 airplanes, certificated in any category, as identified in Airbus Service Bulletin A320-92-1116, Revision 00, dated January 31, 2017; or Airbus Service Bulletin A320-92-1118, Revision 00, dated January 31, 2017.

(d) Subject

Air Transport Association (ATA) of America Code 92, Electrical system installation.

(e) Reason

This AD was prompted by reports of battery retaining rod failures due to quality defects of the material used during parts manufacturing. We are issuing this AD to detect and correct broken battery retaining rods, which, in the event of a hard landing or severe turbulence, could cause the battery to detach from its housing, resulting in damage to other electrical equipment and surrounding structure. This condition could lead to loss of normal electrical power generation and subsequent inability to restore electrical power to essential airplane systems.

(f) Compliance

Comply with this AD within the compliance times specified, unless already done.

(g) Definition of a Serviceable Rod

For the purpose of this AD, a serviceable battery retaining rod is defined in paragraphs (g)(1) or (g)(2) of this AD.

(1) A battery retaining rod provided as a spare part by Airbus.

(2) A battery retaining rod previously fitted on a battery support assembly installed on an airplane manufacturer serial number that is not specified in Airbus Service Bulletin A320-92-1116, Revision 00, dated January 31, 2017 (for Airbus Model A319 and A320 series airplanes; and Model A321-111, -112, -131, -211, -212, -213, -231, and -232 airplanes); or Airbus Service Bulletin A320-92-1118, Revision 00, dated January 31, 2017 (for Airbus Model A320-251N and -271N airplanes), provided the battery retaining rod used for replacement can be positively identified as a serviceable battery retaining rod.

(h) Identification of Affected Parts

Within 24 months after the effective date of this AD: Accomplish a detailed inspection of the battery support assemblies to identify the battery retaining rod manufacturer, in accordance with the Accomplishment Instructions of the Airbus Service Bulletin A320-92-1116, Revision 00, dated January 31, 2017 (for Airbus Model A319 and A320 series airplanes, and Model A321-111, -112, -131, -211, -212, -213, -231, and -232 airplanes); or Airbus Service Bulletin A320-92-1118, Revision 00, dated January 31, 2017 (for Airbus Model A320-251N and -271N airplanes).

(i) Replacement of Affected Parts if Marking Is Found on Battery Support Assembly

If, during the inspection specified in paragraph (h) of this AD, the quality stamp on any battery support assemblies are found marked with an “SA” manufacturer identification, before further flight, replace the battery retaining rods with serviceable battery retaining rods, in accordance with the Accomplishment Instructions of the Airbus Service Bulletin A320-92-1116, Revision 00, dated January 31, 2017 (for Airbus Model A319 and A320 series airplanes; and Model A321-111, -112, -131, -211, -212, -213, -231, and -232 airplanes); or Airbus Service Bulletin A320-92-1118, Revision 00, dated January 31, 2017 (for Airbus Model A320-251N and -271N airplanes); except as provided by paragraph (j) of this AD.

(j) Exception to the Service Information

Although Airbus Service Bulletin A320-92-1116, Revision 00, dated January 31, 2017; and Airbus Service Bulletin A320-92-1118, Revision 00, dated January 31, 2017; specify to install inspection service bulletin (ISB) labels, this AD does not include that requirement.

(k) Parts Installation Prohibition

As of the effective date of this AD, no person may install, on any airplane, a non-serviceable battery retaining rod.

(l) Terminating Action

Replacement of all battery retaining rods with a serviceable battery retaining rod as required by paragraph (i) of this AD constitutes terminating action for all requirements of AD 2016-25-24 for that airplane.

(m) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) Refer to Mandatory Continuing Airworthiness Information (MCAI) EASA AD 2017-0161R1, dated September 19, 2017; corrected September 20, 2017; for related information. This MCAI may be found in the AD docket on the internet at http://www.regulations.gov by searching for and locating Docket No. FAA-2018-0077.

(2) For more information about this AD, contact Sanjay Ralhan, Aerospace Engineer, International Section, Transport Standards Branch, FAA, 2200 South 216th St., Des Moines, WA 98198; telephone and fax 206-231-3223.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-92-1116, Revision 00, dated January 31, 2017.

(ii) Airbus Service Bulletin A320-92-1118, Revision 00, dated January 31, 2017.

(3) For service information identified in this AD, contact Airbus, Airworthiness Office—EIAS, 2 Rond Point Emile Dewoitine, 31700 Blagnac Cedex, France; telephone +33 5 61 93 36 96; fax +33 5 61 93 44 51; email account.airworth-eas@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on July 27, 2018.
James Cashdollar,
Acting Director, System Oversight Division, Aircraft Certification Service.

[FR Doc. 2018-16736 Filed 8-7-18; 8:45 am]

BILLING CODE 4910-13-P